INTERNATIONAL TRADE COMMISSION

[Investigation Nos. 731-TA-1082-1083 (Final)]

Chlorinated Isocyanurates From China and Spain

Determinations

On the basis of the record ¹ developed in the subject investigations, the United States International Trade Commission (Commission) determines pursuant to section 735(b) of the Tariff Act of 1930 (19 U.S.C. 1673d(b)) (the Act), that an industry in the United States is materially injured by reason of imports from China and Spain of chlorinated isocyanurates, provided for in subheading 2933.69.60 of the Harmonized Tariff Schedule of the United States, that have been found by the Department of Commerce (Commerce) to be sold in the United States at less than fair value (LTVV). With regard to U.S. imports from China, the Commission also makes a negative finding of critical circumstances.

¹ The record is defined in sec. 207.2(f) of the Commission's Rules of Practice and Procedure (19 CFR 207.2(f)).

Background

The Commission instituted these investigations effective May 14, 2004, following receipt of a petition filed with the Commission and Commerce by Clearon Corp. (“Clearon”), Fort Lee, NJ, and Occidental Chemical Corp. (“OxyChem”), Dallas, TX. The final phase of these investigations was scheduled by the Commission following notification of preliminary determinations by Commerce that imports of chlorinated isocyanurates from China and Spain were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of January 5, 2005 (70 FR 916). The hearing was held in Washington, DC, on May 5, 2005, and all persons who requested the opportunity were permitted to appear in person or by counsel.

The Commission transmitted its determinations in these investigations to the Secretary of Commerce on June 17, 2005. The views of the Commission are contained in USITC Publication 3782 (June 2005), entitled Chlorinated Isocyanurates from China and Spain: Investigation Nos. 731-TA-1082-1083 (Final).

Issued: June 16, 2005.
By order of the Commission.
Marilyn R. Abbott,
Secretary to the Commission.

[FR Doc. 05-12251 Filed 6-21-05; 8:45 am]

BILLING CODE 7020-02-M